DEPARTMENT OF THE INTERIOR

Bureau of Indian Affairs

[210A2100DD/AAKC001030/A0A501010.999900]

Supplemental Environmental Impact Statement for the Arrow Canyon Solar Project on the Moapa River Indian Reservation, Clark County, Nevada

AGENCY: Bureau of Indian Affairs, Interior.

ACTION: Notice of intent.

SUMMARY: The Bureau of Indian Affairs (BIA), as lead agency in cooperation with the Moapa Band of Paiute Indians (Moapa Band) and other agencies, intends to prepare a Supplemental Environmental Impact Statement (SEIS) that will evaluate the expansion of the previously approved Moapa Solar Energy Center (MSEC) Project on the Moapa River Indian Reservation (Reservation). This project is now referred to as the Arrow Canyon Solar Project (Project) and this notice announces the beginning of the scoping process to solicit public comments and identify potential issues related to the expansion. It also announces that two public scoping meetings will be held in Nevada to identify potential issues, alternatives, and mitigation to be considered in the SEIS.

DATES: Written comments on the scope of the Project or implementation of the proposal must arrive by Monday, March 2, 2020. The dates and locations of the public scoping meetings will be published in the Las Vegas Sun, Las Vegas Review-Journal, and Moapa Valley Progress at least 15 days before the scoping meetings.

ADDRESSES: You may mail, email, or hand carry written comments to Mr. Chip Lewis, BIA Western Regional Office, 2600 North Central Avenue, 4th Floor Mailroom, Phoenix, Arizona 85004; email: Chip.Lewis@bia.gov.

FOR FURTHER INFORMATION CONTACT: Mr. Chip Lewis, BIA Western Regional Office; telephone: (602) 379-6750; email: Chip.Lewis@bia.gov.

SUPPLEMENTARY INFORMATION: The proposed Federal action, taken under 25 U.S.C. 415, is BIA's approval of an amendment of the solar energy ground lease and related agreements entered into by the Moapa Band with Moapa Solar LLC allowing the expansion of the solar field previously approved for the MSEC Project. The agreements provide for construction, operation and maintenance (O&M), and decommissioning of a 200-megawatt (MW) alternating current solar photovoltaic (PV) electricity generation facility located entirely on the Reservation and specifically on Tribal lands held in trust by BIA for the Moapa Band. The MSEC Project was originally developed by Moapa Solar LLC and approved in 2014. It included an 850-acre solar site on the Reservation and associated rights-of-way (ROWs) on Bureau of Land Management (BLM)-managed lands for an access road, gen-tie line, and water pipeline. BIA and BLM issued Records of Decision (RODs) in May 2014 and BLM issued a ROW in August 2015 for the linear facilities. In March 2017, EDF Renewables Development, Inc. (EDFR) purchased the MSEC Project from the original owner and renamed the Project the Arrow Canyon Solar Project. EDFR subsequently transferred the project to Arrow Canyon Solar, LLC (Applicant). The Applicant currently plans to expand the solar field on the Reservation from 850 acres to 2,200 acres. This expansion would occur on Tribal lands identified by the Moapa Band adjacent to the originally approved MSEC site. The linear facilities (i.e. main access road, 230kV gen-tie line, and permanent buried water pipeline) previously approved by the BLM would remain part of the Project description and as previously evaluated; therefore, these facilities will not need to be reevaluated in the SEIS. The 2,200-acre solar site would be located in all or parts of Sections 28, 29, 30, 31, 32, and 33 in Township 16 South, Range 64 East; and part of Section 7 in Township 17 South, Range 64 East, Mount Diablo Meridian, Nevada. Access to the Project would be provided from I-15, US-93, and North Las Vegas Boulevard via the 2.5-mile access road previously approved by BLM. The solar project would interconnect to the regional grid via the previously approved 7.1-mile 230kV generation-tie transmission line on BLM-managed Federal lands that would connect the solar facility to NV Energy's Harry Allen 230kV substation. The Applicant is expected to operate the energy facility for up to 35 years under the terms of the solar lease with the Moapa Band. The Project is expected to be built in one phase of 200 MW to meet an existing Power Purchase Agreement (PPA) for the output of the Project. Major components of the solar site would include multiple blocks of solar PV panels mounted on tracking systems, H-beam or pad mounted inverters, transformers, collection lines, battery storage facilities, project substation, and O&M facilities. Construction of the Project is expected to take approximately 18 to 20 months. Water will be needed during construction for dust control and a minimal amount will be needed during operations for administrative and sanitary water use and up to two panel washings annually. The water supply required for the Project would be leased from the Moapa Band and delivered to the site via the previously approved water pipeline.

The purposes of the proposed Project are, among other things, to: (1) Help to provide a long-term, diverse, and viable economic revenue base and job opportunities for the Moapa Band; (2) meet the terms of the existing PPA for the output of the Project; (3) help Nevada and neighboring States to meet their State renewable energy needs; and (4) allow the Moapa Band, in partnership with the Applicant, to optimize the use of the lease site while maximizing the potential economic benefit to the Tribe. BIA will prepare the SEIS in cooperation with the Moapa Band, BLM, U.S. Environmental Protection Agency (EPA), U.S. Fish and Wildlife Service (USFWS), and Nevada Department of Wildlife (NDOW). In addition, the National Park Service (NPS) will provide input on the analysis. The resulting SEIS will aim to; (1) provide agency decision makers, the Moapa Band, and the general public with a comprehensive understanding of the impacts of the proposed expansion of the solar field on the Reservation; (2) describe the cumulative impacts of increased development on the Reservation; and (3) identify and propose mitigation measures that would minimize or prevent significant adverse impacts. Consistent with these objectives, the SEIS will focus on the expansion of the solar field and analyze the proposed expansion and appurtenant features, viable alternatives, and the No Action alternative. Other alternatives may be identified in response to issues raised during the scoping process. The SEIS will provide a framework for BIA to make decisions and determine whether to amend the existing lease agreement to include the expanded Project footprint. In addition, BIA will use and coordinate the NEPA commenting process to satisfy its obligations under Section 106 of the National Historic Preservation Act (NHPA) (16 U.S.C. 470f) as provided for in 36 CFR 800.2(d)(3). Tribal consultation will be conducted in accordance with policy, and Tribal concerns will be given due consideration, including impacts on Indian trust assets. Other Federal agencies may rely on the SEIS to make decisions under their authority and the Moapa Band may also use the SEIS to make decisions under their Tribal Environmental Policy Ordinance. USFWS will review the SEIS for consistency with the Endangered Species Act, as amended, and other implementing acts and may rely on the SEIS to support its decisions and opinions regarding the Project. Issues to be addressed in the SEIS analysis may include, but would not be limited to, Project impacts on water resources, biological resources, threatened and endangered species, cultural resources, Native American religious concerns, and aesthetics. In addition to those resource topics identified above, Federal, State, and local agencies, along with other stakeholders that may be interested or affected by the BIA's decision on the proposed Project, are invited to participate in the scoping process to identify additional issues to be addressed.

Directions for Submission of Public Comments

Please include your name, return address, and the caption “SEIS, Arrow Canyon Solar Project,” on the first page of any written comments. You may also submit comments at the public scoping meetings. The public scoping meetings will be held to further describe the Project and identify potential issues and alternatives to be considered in the SEIS. The first public scoping meeting will be held on the Reservation and the other public scoping meeting will be held in Las Vegas, Nevada. The dates of the public scoping meetings will be included in notices to be posted in the Las Vegas Sun, Las Vegas Review-Journal, and Moapa Valley Progress 15 days before the meetings.

Public Comment Availability

Comments, including names and addresses of respondents, will be available for public review at the mailing address shown in the ADDRESSES section during regular business hours, 8 a.m. to 4:30 p.m., Monday through Friday, except holidays. Before including your address, phone number, email address, or other personal identifying information in your comment, you should be aware that your entire comment—including your personal identifying information—may be made publicly available at any time.

Authority

This notice is published in accordance with 40 CFR 1501.7 of the Council of Environmental Quality regulations and 43 CFR 46.235 of the Department of the Interior regulations implementing the procedural requirements of the NEPA (42 U.S.C. 4321 et seq.), and in accordance with the exercise of authority delegated to Assistant Secretary—Indian Affairs by part 209 of the Department Manual.

Dated: January 23, 2020.
Tara Sweeney,
Assistant Secretary—Indian Affairs.

[FR Doc. 2020-01708 Filed 1-29-20; 8:45 am]

BILLING CODE 4337-15-P